NUCLEAR REGULATORY COMMISSION

10 CFR Chapter I

[NRC-2016-0044]

Unified Agenda of Federal Regulatory and Deregulatory Actions

AGENCY: Nuclear Regulatory Commission.

ACTION: Semiannual regulatory agenda.

SUMMARY: The U.S. Nuclear Regulatory Commission (NRC) is publishing its semiannual regulatory agenda (the Agenda) in accordance with Public Law 96-354, “The Regulatory Flexibility Act,” and Executive Order 12866, “Regulatory Planning and Review.” The Agenda is a compilation of all rulemaking activities on which the NRC has recently completed action or has proposed or is considering action. The NRC has completed 9 rulemaking activities since publication of its last Agenda on December 15, 2015 (80 FR 78108). This issuance of the NRC's Agenda contains 22 active and 27 long-term rulemaking activities: 2 are Economically Significant; 8 represent Other Significant agency priorities; 41 are Substantive, Nonsignificant rulemaking activities; and 1 is Administrative rulemaking activity. In addition, 3 rulemaking activities impact small entities. The NRC is requesting comment on its rulemaking activities as identified in this Agenda.

DATES: Submit comments on rulemaking activities as identified in this Agenda by July 11, 2016.

ADDRESSES: Submit comments on any rulemaking activity in the Agenda by the date and methods specified in any Federal Register notice on the rulemaking activity. Comments received on rulemaking activities for which the comment period has closed will be considered if it is practical to do so, but assurance of consideration cannot be given except as to comments received on or before the closure dates specified in the Federal Register notice. You may submit comments on this Agenda through the Federal Rulemaking Web site by going to http://www.regulations.gov and searching for Docket ID NRC-2016-0044. Address questions about NRC dockets to Carol Gallagher; telephone: 301-415-3463; email: Carol.Gallagher@nrc.gov. For technical questions on any rulemaking activity listed in the Agenda, contact the individual listed under the heading “Agency Contact” for that rulemaking activity.

For additional direction on obtaining information and submitting comments, see “Obtaining Information and Submitting Comments” in the SUPPLEMENTARY INFORMATION section of this document.

FOR FURTHER INFORMATION CONTACT: Cindy Bladey, Office of Administration, U.S. Nuclear Regulatory Commission, Washington, DC 20555-0001, telephone: 301-415-3280; email: Cindy.Bladey@nrc.gov. Persons outside the Washington, DC metropolitan area may call, toll-free: 1-800-368-5642. For further information on the substantive content of any rulemaking activity listed in the Agenda, contact the individual listed under the heading “Agency Contact” for that rulemaking activity.

SUPPLEMENTARY INFORMATION:

Obtaining Information and Submitting Comments

A. Obtaining Information

Please refer to Docket ID NRC-2016-0044 when contacting the NRC about the availability of information for this document. You may obtain publically-available information related to this document by any of the following methods:

• Reginfo.gov:

• For completed rulemaking activities go to http://www.reginfo.gov/public/do/eAgendaHistory?showStage=completed and select Nuclear Regulatory Commission from drop down menu.

• For active rulemaking activities go to http://www.reginfo.gov/public/do/eAgendaMain and select Nuclear Regulatory Commission from drop down menu.

• For long-term rulemaking activities go to http://www.reginfo.gov/public/do/eAgendaHistory?operation=OPERATION_GET_PUBLICATION&showStage=longterm&currentPubId=201410 and select Nuclear Regulatory Commission from drop down menu.

• Federal Rulemaking Web site: Go to http://www.regulations.gov and search for Docket ID NRC-2016-0044.

• NRC's Public Web site: Go to http://www.nrc.gov/reading-rm/doc-collections/rulemaking-ruleforum/unified-agenda.html and select spring 2016.

• NRC's Public Document Room: You may examine and purchase copies of public documents at the NRC's PDR, Room O1-F21, One White Flint North, 11555 Rockville Pike, Rockville, Maryland 20852.

B. Submitting Comments

Please include Docket ID NRC-2016-0044 in your comment submission.

The NRC cautions you not to include identifying or contact information that you do not want to be publicly disclosed in your comment submission. The NRC will post all comment submissions at http://www.regulations.gov as well as enter the comment submissions into the Agencywide Documents Access and Management System (ADAMS). The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

Introduction

The Agenda is a compilation of all rulemaking activities on which an agency has recently completed action or has proposed or is considering action. The Agenda reports rulemaking activities in three major categories: completed, active, and long-term. Completed rulemaking activities are those that were completed since publication of an agency's last Agenda; active rulemaking activities are those that an agency currently plans to have an Advance Notice of Proposed Rulemaking, a Proposed Rule, or a Final Rule issued within the next 12 months; and long-term rulemaking activities are rulemaking activities under development but for which an agency does not expect to have a regulatory action within the 12 months after publication of the current edition of the Unified Agenda.

A “Regulation Identifier Number” or RIN is given to a rulemaking activity when the NRC has published or plans to publish a Federal Register notice. The Office of Management and Budget uses this number to track all relevant documents throughout the entire “lifecycle” of a particular rulemaking activity. The NRC reports all rulemaking activities in the Agenda that have been assigned a RIN and meet the definition for a completed, an active, or a long-term rulemaking activity.

The information contained in this Agenda is updated to reflect any action that has occurred on a rulemaking activity since publication of the last NRC Agenda on December 15, 2015 (80 FR 78108). Specifically, the information in this Agenda has been updated through March 18, 2016.

The date for the next scheduled action under the heading “Timetable” is the date the next regulatory action for the rulemaking activity is scheduled to be published in the Federal Register. The date is considered tentative and is not binding on the Commission or its staff. The Agenda is intended to provide the public early notice and opportunity to participate in the NRC rulemaking process. However, the NRC may consider or act on any rulemaking activity even though it is not included in the Agenda.

Common Prioritization of Rulemaking

A key part of the NRC's regulatory program is an annual review of all ongoing and potential rulemaking activities. In conjunction with its budget and long-term planning process, the NRC compiles a Common Prioritization of Rulemaking (CPR) listing to develop program budget estimates and to determine the relative priority of NRC rulemaking activities. The most current listing of each rulemaking activity for the Fiscal Year 2017/2018 planning period is available on the NRC's Rulemaking Priorities Web page at http://www.nrc.gov/reading-rm/doc-collections/rulemaking-ruleforum/rule-priorities.html. The CPR process considers four factors and assigns a score to each factor. Factor A includes activities that support the NRC's Strategic Plan goals of ensuring the safe and secure use of radioactive materials. Factor B includes activities that support the Strategic Plan cross-cutting strategies of Regulatory Effectiveness and Openness. Specifically, this factor considers whether the rulemaking activity enhances regulatory effectiveness and/or openness in the way that the NRC conducts regulatory activities. Factor C is a governmental factor representing interest to the NRC, Congress, or other governmental bodies. Factor D is an external factor representing interest to members of the public, non-governmental organizations, the nuclear industry, vendors, and suppliers. The overall priority is determined by adding the factor scores together for each rulemaking activity.

Section 610 Periodic Reviews Under the Regulatory Flexibility Act

Section 610 of the Regulatory Flexibility Act (RFA) requires agencies to conduct a review within 10 years of promulgation of those regulations that have or will have a significant economic impact on a substantial number of small entities. The NRC undertakes these reviews to decide whether the rules should be unchanged, amended, or withdrawn. At this time, the NRC does not have any rules that have a significant economic impact on a substantial number of small entities; therefore, the NRC has not included any RFA Section 610 periodic reviews in this edition of the Agenda. A complete listing of NRC regulations that impact small entities and related Small Entity Compliance Guides will be available from the NRC's Web site at http://www.nrc.gov/about-nrc/regulatory/rulemaking/flexibility-act/small-entities.html.

Public Comments Received on the NRC's Unified Agenda

The NRC did not receive any public comments on its last Agenda that published on December 15, 2015 (80 FR 78108).

Dated at Rockville, Maryland, this 18th day of March 2016.
For the Nuclear Regulatory Commission.
Leslie Terry,
Acting Chief, Rules, Announcements, and Directives Branch, Division of Administrative Services, Office of Administration.

Nuclear Regulatory Commission—Final Rule Stage
Sequence No. | Title | Regulation Identifier No.
405 | Variable Annual Fee Structure for Small Modular Power Reactors [NRC-2008-0664] | 3150-AI54
406 | Revision of Fee Schedules: Fee Recovery for FY 2016 [NRC-2015-0223] | 3150-AJ66

Nuclear Regulatory Commission—Long-Term Actions
Sequence No. | Title | Regulation Identifier No.
407 | Controlling the Disposition of Solid Materials [NRC-1999-0002] | 3150-AH18

NUCLEAR REGULATORY COMMISSION (NRC)

Final Rule Stage

405. Variable Annual Fee Structure for Small Modular Power Reactors [NRC-2008-0664]

Legal Authority: 42 U.S.C. 2201; 42 U.S.C. 5841

Abstract: This rule would amend the Nuclear Regulatory Commission's regulations governing annual fees to establish a variable annual fee structure for power reactors based on licensed power limits.

Timetable:

Action | Date | FR Cite
ANPRM | 03/25/09 | 74 FR 12735
ANPRM Comment Period End | 06/08/09 |
NPRM | 11/04/15 | 80 FR 68268
NPRM Comment Period End | 12/04/15 |
Final Rule | 06/00/16 |

Regulatory Flexibility Analysis Required: Yes.

Agency Contact: Michele D. Kaplan, Nuclear Regulatory Commission, Office of the Chief Financial Officer, Washington, DC 20555-0001, Phone: 301 415-5256, Email: michele.kaplan@nrc.gov.

RIN: 3150-AI54

406. Revision of Fee Schedules: Fee Recovery for FY 2016 [NRC-2015-0223]

Legal Authority: 31 U.S.C. 483; 42 U.S.C. 2201; 42 U.S.C. 2214; 42 U.S.C. 5841

Abstract: This rule would amend the Nuclear Regulatory Commission licensing, inspection, special project, and annual fees charged to its applicants and licensees and, for the first time, the NRC is proposing to recover its costs when it responds to third-party demands for information in litigation where the United States is not a party (“Touhy requests”). These proposed amendments are necessary to implement the Omnibus Budget Reconciliation Act of 1990 as amended (OBRA-90), which requires the NRC to recover approximately 90 percent of its annual budget through fees.

Timetable:

Action | Date | FR Cite
NPRM | 03/23/16 | 81 FR 15457
NPRM Comment Period End | 04/22/16 |
Final Rule Published | 06/00/16 |

Regulatory Flexibility Analysis Required: Yes.

Agency Contact: Michele D. Kaplan, Nuclear Regulatory Commission, Office of the Chief Financial Officer, Washington, DC 20555-0001, Phone: 301 415-5256, Email: michele.kaplan@nrc.gov.

RIN: 3150-AJ66

NUCLEAR REGULATORY COMMISSION (NRC)

Long-Term Actions

407. Controlling the Disposition of Solid Materials [NRC-1999-0002]

Legal Authority: 42 U.S.C. 2201; 42 U.S.C. 5841

Abstract: This rule would add radiological criteria for controlling the disposition of solid materials that have no, or very small amounts of, residual radioactivity resulting from licensed operations, and which originate in restricted or impacted areas of NRC-licensed facilities. The NRC staff provided a draft proposed rule package on Controlling the Disposition of Solid Materials to the Commission on March 31, 2005, which the Commission disapproved (ADAMS Accession No. ML051520285). The rulemaking package included a summary of stakeholder comments (NUREG/CR-6682), Supplement 1 (ADAMS Accession No. ML003754410). The Commission's decision was based on the fact that the Agency is currently faced with several high priority and complex tasks, that the current approach to review specific cases on an individual basis is fully protective of public health and safety, and that the immediate need for this rule has changed due to the shift in timing for reactor decommissioning. The Commission has deferred action on this rulemaking.

Timetable:

Action | Date | FR Cite
ANPRM | To Be Determined

Regulatory Flexibility Analysis Required: Yes.

Agency Contact: Torre Taylor, Nuclear Regulatory Commission, Office of Nuclear Material Safety and Safeguards, Washington, DC 20555-0001, Phone: 301 415-7900, Email: torre.taylor@nrc.gov.

RIN: 3150-AH18

[FR Doc. 2016-12959 Filed 6-8-16; 8:45 am]

BILLING CODE 7590-01-P